GENERAL SERVICES ADMINISTRATION

[OMB Control No. 3090-0319; Docket No. 2024-0001; Sequence No. 8]

Submission for OMB Review; CDP Supply Chain Climate Change Information Request

AGENCY: Office of Government-wide Policy (OGP), General Services Administration (GSA).

ACTION: Notice and request for comments.

SUMMARY: In accordance with the Paperwork Reduction Act of 1995, and the Office of Management and Budget (OMB), GSA will invite the public to comment on a renewal and extension concerning the CDP Supply Chain Climate Change Information Request.

DATES: GSA will consider all comments received by November 20, 2024.

ADDRESSES: Written comments and recommendations for this information collection should be sent within 30 days of publication of this notice to www.reginfo.gov/public/do/PRAMain. Find this particular information collection by selecting “Currently under Review—Open for Public Comments” or by using the search function.

FOR FURTHER INFORMATION CONTACT: Mr. Jed Ela, Sustainability Advisor, Office of Government-wide Policy, at jed.ela@gsa.gov, 202-854-8804.

SUPPLEMENTARY INFORMATION:

A. Purpose

The CDP Supply Chain Climate Change Information Request is an electronic questionnaire designed to collect information that is widely used by large private and public sector organizations to understand, assess, and mitigate potentially disruptive and costly supply chain risks, investment risks, and environmental impacts. The questionnaire is administered by CDP North America, Inc., a 501(c)(3) nonprofit organization (“CDP”). CDP administers the questionnaire annually on behalf of over 700 institutional investors, 300 major corporations, and several large governmental purchasing organizations in addition to GSA. CDP's most recent annual survey was directed to over 40,000 companies, with over 23,000 electing to respond.

Under previously approved information collection requests, GSA has directed CDP since 2017 to include several hundred major Federal contractors annually among its potential survey respondents. In accordance with 31 U.S. Code 3512(c)(1)(b), GSA uses information received from these companies via CDP to inform and develop purchasing policies and contract requirements necessary to safeguard Federal assets against waste, loss, and misappropriation resulting from unmitigated exposure to physical, market, regulatory, legal, and other types of risks in Federal supply chains. GSA also uses the information in accordance with Executive Orders 13990, 14008, 14030, and 14057 to inform development of policies and programs to reduce similar risks and environmental impacts associated with federal procurement activities.

For example, GSA has used CDP information in recent years to perform critical market research in connection with multi-billion-dollar strategic contracting efforts. In one case, GSA determined that data center facilities used by potential network infrastructure providers could be at risk due to flooding, extreme heat, or lack of available cooling water sources, placing Federal client operations at risk. In another case, GSA used information from the CDP survey to research potential contractors' existing risk mitigation and greenhouse gas reduction practices and to design appropriate contract requirements to ensure that contractors assess and mitigate these risks and reduce greenhouse gasses associated with their federal contract activities. In another case, GSA determined that energy savings practices available to potential information technology service providers could significantly lower their overhead costs and that this would likely reduce contract costs for GSA and other Federal agencies. GSA uses the information collected to research development of similar policies and programs and to verify contractor compliance with existing programs.

B. Annual Burden Hours

GSA expects to direct CDP to request voluntary survey responses from up to 1000 large and medium-sized businesses per year. Estimates of response time per respondent vary greatly depending on whether each requested respondent (a) elects not to respond; (b) responds, but would have responded to CDP regardless of GSA's request (because the respondent was also requested to respond to CDP by other customer and/or investor stakeholders); or (c) responds to CDP because of GSA's request. Analysis of total response time is thus based on estimates for each of these categories.

(a) Requested respondents who elect not to respond. Based on historical CDP response rates and GSA's intended recipients, GSA estimates that 680 out of 1000 annual requested respondents will be in this category. Hour burden for this category: 680 non-responses; time per respondent 0; total time 0.

(b) Respondents who would have responded to CDP regardless of GSA's request. These respondents will complete some or all of the collection instrument, but would have done so regardless of GSA's request. In addition, some of these respondents will answer a small number of additional questions (requiring a small fraction of their overall response time to CDP) based on GSA's request. In addition, all of these respondents will need to complete one additional question in order to direct CDP to share their responses with GSA. Based on historical CDP response rates and GSA's intended recipients, GSA estimates that 250 out of 1000 annual requested respondents will be in this category. Hour burden for this category: 250 responses; average time per respondent 5 minutes; total burden 21 hours.

(c) Respondents who respond to CDP because of GSA's request. These respondents may need to invest significant time drafting their responses and gathering facts, including searching and compiling existing data sources such as utility bills, and completing and reviewing the collection instrument. Based on historical CDP response rates and GSA's intended recipients, GSA estimates that 70 out of 1000 annual requested respondents will be in this category. Based on discussions with several dozen previous respondents to CDP's questionnaire, as well as public input received in response to a related information collection request notice (see 82 FR 3794), time burden for this collection is estimated to average 120 hours per response. Hour burden for this category: 70 responses; average time per respondent 120 hours; total burden 8400 hours.

Based on the individual category response times above, the total estimated response burden for all 1000 requested respondents is summarized below.

Frequency: Annual

Affected Public: Federal contractors

Number of Respondents: 1000

Responses per Respondent: 1

Total Annual Responses: 320

Estimated Time per Respondent: 26.3

Total Burden Hours: 8421

C. Public Comments

A 60-day notice was published in the Federal Register at 89 FR 59100 on July 22, 2024. Two comments were received.

Comment: One commenter supported GSA's use of the CDP Supply Chain Questionnaire, and further suggested sharing aggregate information from the surveys with federal agencies working on climate change issues; linking GSA's efforts with other federal and non-federal efforts to bolster supply chain resilience; and considering administering the survey on a voluntary basis to large federal grantees such as state agencies that receive considerable federal funding.

Response: GSA appreciates this commenter's support. GSA already shares aggregate information from this survey with other federal agencies and collaborates with other federal and non-federal efforts to bolster supply chain resilience, and expects to continue to do so. GSA does not administer significant grants, and notes that CDP Supply Chain questionnaires were developed for use by private sector respondents and are not commonly used by public sector respondents, which would increases the potential burdens and decrease the utility of information collected from this type of respondents.

Comment: One commenter asserted that climate change does not exist, and requested that GSA “reimburse the taxpayer for this hoax.”

Response: The existence and impacts of climate change, including risks to the economy and efficiency of federal procurement and supply chains, are well supported by the Fifth National Climate Assessment (“NCA5,” https://nca2023.globalchange.gov), the US Government's preeminent report on climate change impacts, risks, and responses. The NCA5 was mandated by Congress in the Global Change Research Act of 1990 and authored by the U.S. Global Change Research Program, a collaboration between at least fifteen U.S. Federal agencies. The NCA5 was based on a comprehensive review and assessment of information sources determined to meet the standards and documentation required under the Information Quality Act and the Foundations for Evidence-Based Policymaking Act of 2018, including peer-reviewed literature, other literature, Indigenous Knowledge, other expert and local knowledge, and climate data processed and prepared for authors by NOAA's Technical Support Unit. NCA5 was thoroughly reviewed by Federal Government experts, external experts, and the public multiple times throughout the report development process. An expert external review was performed by an ad hoc committee of the National Academies of Sciences, Engineering, and Medicine. Even if climate change were a “hoax,” GSA lacks authorities or mechanisms for general reimbursements to taxpayers.

Lois Mandell,
Director, Regulatory Secretariat Division, General Services Administration.

[FR Doc. 2024-24192 Filed 10-18-24; 8:45 am]

BILLING CODE 6820-14-P